DEPARTMENT OF DEFENSE

Department of the Army; Corps of Engineers

Intent To Cease Preparation of a Draft Environmental Impact Statement/Subsequent Environmental Impact Report for a Permit Application for the Proposed West Basin Marine Terminal Improvement Projects in the Port of Los Angeles, Los Angeles County, CA

AGENCY: Department of the Army, U.S. Army Corps of Engineers, DOD.

ACTION: Cease preparation of Draft EIS/R.

SUMMARY: The U.S. Army Corps of Engineers (Corps) Los Angeles District is no longer preparing a Draft Environmental Impact Statement/Subsequent Environmental Impact Report (EIS/SEIR) covering the overall proposed West Basin improvement projects in the Port of Los Angeles. The Corps and the Los Angeles Harbor Department (LAHD) had previously circulated a Notice of Intent to prepare a Draft EIS/SEIR (Federal Register, July 5, 2002, Volume 67, Number 129) covering several terminal improvement projects in the geographic portion of the Port of Los Angeles known as the West Basin. This Draft EIS/SEIR is no longer being pursued. The Corps and the LAHD are in the process of preparing project specific Draft EIS/EIRs for both the China Shipping Terminal Improvements project at Berths 97-109, and the TraPac Terminal Improvements project at Berths 136-147. Both of these terminal projects were formerly elements of the larger West basin document. This notice does not indicate any change of status for these project specific proposals.

FOR FURTHER INFORMATION CONTACT: Phone messages or questions can be directed to Joshua Burnam, Project Manager, Regulatory Branch, Los Angeles District at: (213) 452-3294 or by e-mail at Joshua.L.Burnam@usace.army.mil.

Richard G. Thompson,
Colonel, US Army, District Engineer.

[FR Doc. 03-31266 Filed 12-18-03; 8:45 am]

BILLING CODE 3710-92-P